DEPARTMENT OF TRANSPORTATION

Federal Aviation Administration

14 CFR Part 39

[Docket No. 98-NM-228-AD]

RIN 2120-AA64

Airworthiness Directives; McDonnell Douglas Model DC-10-10, -15, -30, and -40 Series Airplanes, and KC-10A (Military) Airplanes

AGENCY: Federal Aviation Administration, DOT.

ACTION: Supplemental notice of proposed rulemaking; reopening of comment period.

SUMMARY: This document revises an earlier proposed airworthiness directive (AD) applicable to certain McDonnell Douglas Model DC-10 series airplanes, and KC-10A (military) airplanes, that would have required repetitive inspections to detect failure of the attachment fasteners located in the banjo No. 4 fitting of the vertical stabilizer. That proposed AD also would have required a one-time inspection to detect cracking of the flanges and bolt holes of the banjo No. 4 fitting, and repair or replacement of the attachment fasteners with new, improved fasteners. In addition, the proposed AD would have required a one-time inspection to determine whether certain fasteners are installed in the banjo No. 4 fitting of the vertical stabilizer, and follow-on actions, if necessary. That proposal was prompted by reports of failure of certain fasteners installed in the banjo No. 4 fitting of the vertical stabilizer. This new action revises, among other actions, the proposed rule by amending certain corrective actions. The actions specified by this new proposed AD are intended to prevent cracking of the attachment fasteners of the vertical stabilizer, which could result in loss of fail-safe capability of the vertical stabilizer and reduced controllability of the airplane.

DATES: Comments must be received by May 8, 2000.

ADDRESSES: Submit comments in triplicate to the Federal Aviation Administration (FAA), Transport Airplane Directorate, ANM-114, Attention: Rules Docket No. 98-NM-228-AD, 1601 Lind Avenue, SW., Renton, Washington 98055-4056. Comments may be inspected at this location between 9:00 a.m. and 3:00 p.m., Monday through Friday, except Federal holidays.

The service information referenced in the proposed rule may be obtained from The Boeing Company, Douglas Products Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California.

FOR FURTHER INFORMATION CONTACT: Ron Atmur, Aerospace Engineer, Airframe Branch, ANM-120L, FAA, Transport Airplane Directorate, Los Angeles Aircraft Certification Office, 3960 Paramount Boulevard, Lakewood, California 90712-4137; telephone (562) 627-5224; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 98-NM-228-AD.” The postcard will be date stamped and returned to the commenter.

Availability of NPRMs

Any person may obtain a copy of this NPRM by submitting a request to the FAA, Transport Airplane Directorate, ANM-114, Attention: Rules Docket No. 98-NM-228-AD, 1601 Lind Avenue, SW., Renton, Washington 98055-4056.

Discussion

A proposal to amend part 39 of the Federal Aviation Regulations (14 CFR part 39) to add an airworthiness directive (AD), applicable to certain McDonnell Douglas Model DC-10 series airplanes, was published as a notice of proposed rulemaking (NPRM) in the Federal Register on November 23, 1998 (63 FR 64664). That NPRM would have required repetitive inspections to detect failure of the attachment fasteners located in the banjo No. 4 fitting of the vertical stabilizer. That NPRM also would have required a one-time inspection to detect cracking of the flanges and bolt holes of the banjo No. 4 fitting, and repair or replacement of the attachment fasteners with new, improved fasteners. In addition, that NPRM would have required a one-time inspection to determine whether certain fasteners are installed in the banjo No. 4 fitting of the vertical stabilizer, and follow-on actions, if necessary. That NPRM was prompted by reports of failure of certain fasteners installed in the banjo No. 4 fitting of the vertical stabilizer. That condition, if not corrected, could result in cracking of the attachment fasteners of the vertical stabilizer, which could result in loss of fail-safe capability of the vertical stabilizer and reduced controllability of the airplane.

Comments Received That Result in a Change to the Proposal

Due consideration has been given to the following comments received in response to the NPRM.

Request to Limit Applicability of Paragraph (c) of the AD

One commenter requests that the visual inspection of the second oversize fasteners, part number (P/N) S4931917-8Y, as required by paragraph (c) of the proposed AD, apply only to airplanes that have not accomplished the requirements of AD 96-07-01, amendment 39-9549 (61 FR 12015, March 25, 1996) in accordance with McDonnell Douglas Service Bulletin DC10-55-023, Revision 03, dated March 25, 1998 [which also was referenced in the proposed AD as an appropriate source of service information for accomplishment of the actions specified in paragraph (b)].

The FAA concurs with the commenter's request. The FAA finds that second oversize fasteners, P/N S4931917-8Y, would not have been installed if the requirements of paragraph (b) of the AD had been accomplished in accordance with McDonnell Douglas Service Bulletin DC10-55-023, Revision 03, dated March 25, 1998, or if the requirements of AD 96-07-01 had been accomplished in accordance with Revision 03 of that service bulletin. Therefore, paragraph (c) of the final rule is revised accordingly.

Request for Clarification of Requirements

One commenter states that the proposed AD is not clear on what the terminating action requirements are if the second oversize fasteners, P/N S4931917-8Y, are found installed on previously modified airplanes. The commenter states that paragraphs (c)(3)(i) and (c)(3)(ii) of the proposed AD indicate that terminating action should be accomplished in accordance with paragraph (b) of the proposed AD. In the transmittal sheet of Revision 03 of McDonnell Douglas Service Bulletin DC10-55-023, it states that S4931917-8Y fasteners are to be repetitively inspected and finally replaced with HLT717B-8 fasteners if found on previously modified airplanes. It is understood that if the fasteners are found and there is no failure, they can be simply replaced. However, this statement does not indicate what must be done if failed fasteners are found during these repetitive inspections. The commenter contends that the current wording of the proposed rule implies that in the situation of a failed fastener found during a repetitive inspection, all twelve bolts must be removed and eddy current inspections must be accomplished before the new fasteners, P/N HLT717B-8, are installed. The commenter disagrees with this action due to the possibility of sustaining damage to the previously cold worked holes with correct fasteners installed, which would require additional oversize or repair. The commenter asserts that only the affected holes with failed fasteners should be eddy current bolt hole inspected, not all holes.

The FAA concurs that clarification is necessary. Paragraph (c)(3) of the AD provides corrective actions if second oversize fasteners P/N S4931917-8Y are installed. The FAA has determined that removal of fasteners and inspection of fastener holes is not necessary for holes that do not have second oversize fasteners P/N S4931917-8Y installed. The FAA's intent in paragraph (c)(3)(i) of the AD was to require repetitive external inspections thereafter at intervals not to exceed 1,500 landings until the requirements of paragraph (b) of this AD are accomplished, and eventually require accomplishment of the requirements of paragraph (b) of the AD again. The FAA's intent in paragraph (c)(3)(ii) of the AD was to require accomplishment of the requirements of paragraph (b) of this AD for the failed fastener and its associated fastener hole only. Therefore, the FAA has revised paragraphs (c)(3)(i) and (c)(3)(ii) of the AD to reflect this clarification.

Another commenter requests that the wording of paragraph (c)(3)(i) of the proposed AD be clarified as to when the second oversize fasteners, P/N S4931917-8Y, must be replaced. The commenter contends that it is possible to interpret the proposed AD in a way that would require replacement of all the fasteners by April 24, 2001, which is the date for compliance to paragraph (b) of the proposed AD. However, the 1,500 landing compliance time required by paragraph (c) of the proposed AD for the initial inspection could occur after April 24, 2001, for operators that have accomplished the modification in accordance with McDonnell Douglas Service Bulletin DC10-55-023, Revision 02, dated October 30, 1996.

The FAA agrees that clarification is necessary. As discussed previously, the requirements of paragraph (c)(3)(i) of the AD are intended to provide an acceptable level of safety through the use of repetitive external visual inspections until the requirements of paragraph (b) of the proposed AD are accomplished. The FAA acknowledges that maintenance scheduling conflicts may arise because of the compliance times associated with the new actions required by the proposed AD and the actions retained from the superseded AD. Therefore, paragraph (c)(3)(i) has been revised to allow a minimum of 1,500 landings, from the initial inspection, to accomplish the replacement of second oversize fasteners, P/N S4931917-8Y.

Explanation of Change to Proposal

The FAA has added a note to the final rule to clarify the definition of a detailed visual inspection.

Conclusion

Since these changes expand the scope of the originally proposed rule, the FAA has determined that it is necessary to reopen the comment period to provide additional opportunity for public comment.

Cost Impact

There are approximately 420 airplanes of the affected design in the worldwide fleet. The FAA estimates that 242 airplanes of U.S. registry will be affected by this AD.

Since the issuance of AD 96-07-01, the manufacturer has revised its estimate of the work hours necessary to perform the actions that are currently required by that AD. McDonnell Douglas Service Bulletin DC10-55-023, Revision 03, reflects the manufacturer's revised estimates; and the cost information, below, also has been revised to refer to the new estimates.

The visual inspection that is currently required by AD 96-07-01, and retained in this AD, takes approximately 1 work hour per airplane to accomplish, at an average labor rate of $60 per work hour. Based on these figures, the cost impact of the visual inspection currently required by that AD on U.S. operators is estimated to be $14,520, or $60 per airplane, per inspection cycle.

The eddy current inspection that is currently required by AD 96-07-01, and retained in this AD, takes approximately 4 work hours per airplane to accomplish, at an average labor rate of $60 per work hour. Based on these figures, the cost impact of the eddy current inspection currently required by that AD on U.S. operators is estimated to be $58,080, or $240 per airplane.

The replacement of the 12 attachment fasteners of the banjo No. 4 fitting that is currently required by AD 96-07-01, and retained in this AD, takes approximately 14 work hours per airplane to accomplish, at an average labor rate of $60 per work hour. Required parts cost approximately $250 per airplane. Based on these figures, the cost impact of the replacement currently required by that AD on U.S. operators is estimated to be $263,780, or $1,090 per airplane.

The new inspection that is proposed in this AD action would take approximately 1 work hour per airplane to accomplish, at an average labor rate of $60 per work hour. Based on these figures, the cost impact of the inspection proposed by this AD on U.S. operators is estimated to be $14,520, or $60 per airplane.

The cost impact figures discussed above are based on assumptions that no operator has yet accomplished any of the current or proposed requirements of this AD action, and that no operator would accomplish those actions in the future if this AD were not adopted.

Should an operator that has already completed the replacement of the attachment fasteners of the banjo No. 4 fitting in accordance with AD 96-07-01 be required to repeat the replacement, it would take approximately 14 additional work hours, at an average labor rate of $60 per work hour. Additional parts would cost $150 per airplane. Based on these figures, the cost impact of any necessary repetition of the replacement is estimated to be $990 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9549 (61 FR 12015, March 25, 1996), and by adding a new airworthiness directive (AD) to read as follows:

McDonnell Douglas: Docket 98-NM-228-AD. Supersedes AD-96-07-01, Amendment 39-9549.

Applicability: Model DC-10-10, -15, -30, and -40 series airplanes, and KC-10A (military) airplanes; as listed in McDonnell Douglas DC-10 Service Bulletin 55-23, Revision 1, dated December 17, 1993; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent cracking of the attachment fasteners of the vertical stabilizer, which could result in loss of fail-safe capability of the vertical stabilizer and reduced controllability of the airplane, accomplish the following:

(a) Except as required by paragraph (c)(3) of this AD, within 1,500 landings after April 24, 1996 (the effective date of AD 96-07-01, amendment 39-9549): Perform an external visual inspection, using a minimum 5X power magnifying glass, to detect any failure of the 12 attachment fasteners located in the banjo No. 4 fitting of the vertical stabilizer (as specified in McDonnell Douglas DC-10 Service Bulletin 55-23, Revision 1, dated December 17, 1993; or McDonnell Douglas Service Bulletin DC10-55-023, Revision 02, dated October 30, 1996, or Revision 03, dated March 25, 1998). Perform this inspection in accordance with procedures specified in McDonnell Douglas Nondestructive Testing Manual, Chapter 20-10-00, or McDonnell Douglas Nondestructive Testing Standard Practice Manual, Part 09.

(1) If no failure is detected, repeat the external visual inspection thereafter at intervals not to exceed 1,500 landings until the requirements of paragraph (b) of this AD are accomplished.

(2) If any failure is detected, prior to further flight, accomplish the requirements of paragraph (b) of this AD.

(b) Except as required by paragraphs (a)(2) and (c)(3)(ii) of this AD, within 5 years after April 24, 1996: Perform an eddy current surface inspection to detect cracking of the forward and aft flanges; and an eddy current bolt hole inspection of the bolt holes of the banjo No. 4 fitting; in accordance with McDonnell Douglas DC-10 Service Bulletin 55-23, Revision 1, dated December 17, 1993; or McDonnell Douglas Service Bulletin DC10-55-023, Revision 02, dated October 30, 1996, or Revision 03, dated March 25, 1998.

Note 2: Paragraph (b) of this AD does not require that eddy current bolt hole inspections be accomplished for the bolt holes of the banjo No. 4 fitting if the attachment fasteners were replaced prior to April 24, 1996, in accordance with McDonnell Douglas DC-10 Service Bulletin 55-23, dated December 17, 1992.

(1) If no cracking is detected, prior to further flight, replace the 12 attachment fasteners located on the banjo No. 4 fitting with new, improved attachment fasteners, in accordance with McDonnell Douglas DC-10 Service Bulletin 55-23, dated December 17, 1992, or Revision 1, dated December 17, 1993; or McDonnell Douglas Service Bulletin DC10-55-023, Revision 02, dated October 30, 1996, or Revision 03, dated March 25, 1998. After the effective date of this AD, only Revision 03 of the service bulletin shall be used.

(i) Accomplishment of the replacement in accordance with the original issue of the service bulletin constitutes terminating action for the requirements of paragraph (a) of this AD, provided that the eddy current surface inspection of the forward and aft flanges is accomplished in accordance with McDonnell Douglas DC-10 Service Bulletin 55-23, Revision 1, dated December 17, 1993; or McDonnell Douglas Service Bulletin DC10-55-023, Revision 02, dated October 30, 1996, or Revision 03, dated March 25, 1998.

(ii) Accomplishment of the replacement in accordance with McDonnell Douglas DC-10 Service Bulletin 55-23, Revision 1, dated December 17, 1993; or McDonnell Douglas Service Bulletin DC10-55-023, Revision 02, dated October 30, 1996, or Revision 03, dated March 25, 1998; constitutes terminating action for the requirements of paragraph (a) of this AD, provided that the eddy current surface inspection of the forward and aft flanges, and the eddy current bolt hole inspection of the bolt holes of the banjo No. 4 fitting, are accomplished in accordance with Revision 1, Revision 02, or Revision 03 of the service bulletin.

(2) If any cracking is detected, prior to further flight, repair either in accordance with Figure 6 or Figure 7, as applicable, of Chapter 55-20-00, Volume 1, of the DC-10 Structural Repair Manual; or in accordance with a method approved by the Manager, Los Angeles Aircraft Certification Office (ACO), FAA, Transport Airplane Directorate.

(c) For airplanes that have not accomplished the requirements of paragraph (b) in accordance with McDonnell Douglas Service Bulletin DC-55-023, Revision 3, dated March 25, 1998: Within 1,500 landings after the effective date of this AD, perform a one-time detailed visual inspection to determine whether second oversize fasteners having part number (P/N) S4931917-8Y are installed in the banjo No. 4 fitting of the vertical stabilizer.

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If second oversize fasteners having P/N S4931917-8Y are not installed, and the actions required by paragraph (b) of this AD have been accomplished, no further action is required by this AD.

(2) If second oversize fasteners having P/N S4931917- 8Y are not installed, and the actions required by paragraph (b) of this AD have not been accomplished: Within 1,500 landings after the last inspection performed in accordance with paragraph (a) of this AD, repeat that inspection, and perform the follow-on actions specified by paragraph (a) of this AD.

(3) If second oversize fasteners having P/N S4931917- 8Y are installed, prior to further flight, perform an external visual inspection to detect any failure of the 12 attachment fasteners located in the banjo No. 4 fitting of the vertical stabilizer in accordance with paragraph (a) of this AD.

(i) If no failure is detected, accomplish the actions specified in paragraph (c)(3)(i)(A) and (c)(3)(i)(B) of this AD.

(A) For any hole that has a P/N S4931917-8Y fastener installed: Repeat the external visual inspection thereafter at intervals not to exceed 1,500 landings until the requirements of paragraph (b) of this AD are accomplished.

(B) For any hole that has a P/N S4931917-8Y fastener installed: Within 5 years after April 24, 1996, or within 1,500 landings from the inspection required by paragraph (c)(3) of this AD, whichever occurs later, accomplish the requirements of paragraph (b) of this AD.

(ii) If any failure is detected, prior to further flight, accomplish the requirements of paragraph (b) of this AD for the failed fastener and its associated fastener hole only.

(d) As of the effective date of this AD, no person shall install a second oversize fastener having part number (P/N) S4931917-8Y in the banjo No. 4 fitting of the vertical stabilizer on any airplane.

Alternative Methods of Compliance

(e) An alternative method of compliance or adjustment of the compliance time that provides an acceptable level of safety may be used if approved by the Manager, Los Angeles ACO. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(f) Special flight permits may be issued in accordance with sections 21.197 and 21.199 of the Federal Aviation Regulations (14 CFR 21.197 and 21.199) to operate the airplane to a location where the requirements of this AD can be accomplished.

Issued in Renton, Washington, on April 5, 2000.
Donald L. Riggin,
Acting Manager, Transport Airplane Directorate, Aircraft Certification Service.

[FR Doc. 00-8995 Filed 4-10-00; 8:45 am]

BILLING CODE 4910-13-U